Proclamation 9821 of November 8, 2018

World Freedom Day, 2018

By the President of the United States of America

A Proclamation

The Berlin Wall stood as a harrowing barrier for nearly three decades, dividing East and West Germans from their families and friends, and symbolizing the suffocating oppression of Soviet-backed totalitarian regimes. On World Freedom Day, we remember the struggle and sacrifice of those who braved severe hardships under communism's brutal reign, and we celebrate November 9, 1989, as the day when freedom-loving people on both sides of the wall came together to begin tearing down this hated obstruction to liberty. We also honor the unwavering resolve of those who confronted the evils of corrupt despots and reaffirm our support for people around the world seeking to live in freedom and to enjoy the blessings of liberty.

As of this year, Germany has been reunified for longer than it was divided by the Berlin Wall, which imprisoned the people of East Germany for more than 28 years. While it stood, the Berlin Wall was both a physical barrier and a symbol of oppression. Few dared to dream of reunification. The courageous and unwavering determination of those who dared to confront it and those who guarded it day and night, however, inspired millions to prove that freedom prevails over tyranny. The fall of the Berlin Wall marked a major step in the disintegration of the Iron Curtain, paving the way to the liberation of Eastern and Central Europe from the grip of communism and marking a decisive victory for freedom-loving people across Europe. Many countries that lived under the shadow of communism emerged as new democracies and reclaimed their right to determine their own futures. Today, they continue to defend their cherished independence.

Unfortunately, we know freedom is repressed in too many places around the world, particularly where terrorism and extremism continue to pose grave threats. Americans have always held boldly and unapologetically to the truth that liberty is an inherent human right, and we reaffirm our commitment to keeping the light of freedom burning bright and shining out to the entire world.

Today, we pay tribute to the brave individuals who, despite all risks, have challenged injustice and fought for freedom, especially those who have made the ultimate sacrifice. We stand in solidarity with those who still live under tyrannical governments and emphasize that the world will be better off when all governments respect the right of all people to live in freedom.

NOW, THEREFORE, I, DONALD J. TRUMP, President of the United States of America, by virtue of the authority vested in me by the Constitution and the laws of the United States, do hereby proclaim November 9, 2018, as World Freedom Day. I call upon the people of the United States to observe this day with appropriate ceremonies and activities, reaffirming our dedication to freedom and democracy.

IN WITNESS WHEREOF, I have hereunto set my hand this eighth day of November, in the year of our Lord two thousand eighteen, and of the Independence of the United States of America the two hundred and forty-third.

[FR Doc. 2018-25046

Filed 11-13-18; 11:15 am]

Billing code 3295-F9-P